FEDERAL COMMUNICATIONS COMMISSION

47 CFR Part 73

[DA 05-2942; MB Docket No. 05-188; RM-11240]

Radio Broadcasting Services; Bass River Township and Ocean City, NJ

AGENCY: Federal Communications Commission.

ACTION: Final rule.

SUMMARY: In response to a Notice of Proposed Rule Making, 70 FR 31409 (June 1, 2005), this Report and Order substitutes Channel 293A for Channel 292A, Station WKOE(FM), Ocean City, New Jersey; reallots Channel 293A, from Ocean City to Bass River Township; and modifies Station WKOE's license accordingly. The coordinates for Channel 293A at Bass River Township, New Jersey, are 39-39-00 NL and 74-21-20 WL, with a site restriction of 10.4 kilometers (6.4 miles) northeast of Bass River Township.

DATES: Effective December 27, 2005.

FOR FURTHER INFORMATION CONTACT: R. Barthen Gorman, Media Bureau, (202) 418-2180.

SUPPLEMENTARY INFORMATION: This is a synopsis of the Commission's Report and Order, MB Docket No. 05-188, adopted November 9, 2005, and released November 10, 2005. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 reads as follows:

Authority: 47 U.S.C. 154, 303, 334, 336.

§ 73.202 [Amended]

2. Section 73.202(b), the Table of FM Allotments under New Jersey, is amended by removing Channel 292A at Ocean City, and adding Bass River Township, Channel 293A.

Federal Communications Commission.
John A. Karousos,
Assistant Chief, Audio Division, Media Bureau.

[FR Doc. 05-23356 Filed 11-29-05; 8:45 am]

BILLING CODE 6712-01-P